NUCLEAR REGULATORY COMMISSION

[Docket No. 72-1050; NRC-2016-0231]

Interim Storage Partners LLC's Consolidated Interim Spent Fuel Storage Facility; Correction

AGENCY: Nuclear Regulatory Commission.

ACTION: Environmental impact statement; reopening of scoping comment period; correction.

SUMMARY: The U.S. Nuclear Regulatory Commission (NRC) is correcting a notice that was published in the Federal Register (FR) on September 4, 2018, reopening the scoping comment period for the NRC's Environmental Impact Statement (EIS) for the Interim Storage Partners LLC (ISP) proposed consolidated interim storage facility for spent nuclear fuel, to be located on the Waste Control Specialists LLC (WCS) site in Andrews County, Texas.

DATES: The correction is effective September 13, 2018.

ADDRESSES: Please refer to Docket ID NRC-2016-0231 when contacting the NRC about the availability of information regarding this document. You may obtain publicly-available information related to this document using any of the following methods:

• Federal Rulemaking Website: Go to http://www.regulations.gov and search for Docket ID NRC-2016-0231. Address questions about dockets in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. Documents related to WCS' license application can be found under Docket Number 72-1050.

• NRC's PDR: You may examine and purchase copies of public documents at the NRC's PDR, Room O1-F21, One White Flint North, 11555 Rockville Pike, Rockville, Maryland 20852.

• Project web page: Information related to the ISP CISF project can be accessed on the NRC's project web page at: https://www.nrc.gov/waste/spent-fuel-storage/cis/waste-control-specialist.html.

FOR FURTHER INFORMATION CONTACT: James Park, Office of Nuclear Material Safety and Safeguards, U.S. Nuclear Regulatory Commission, Washington DC 20555-0001; telephone: 301-415-6954; email: James.Park@nrc.gov.

SUPPLEMENTARY INFORMATION: In the FR on September 4, 2018, in FR Doc. 2018-18067, on page 44923, in column one, under the second paragraph, last line in Section II, “Discussion,” correct the date from “October 19, 2018” to “September 4, 2018.” The scoping comment period due date was inadvertently added.

The NRC has decided to reopen the EIS public scoping comment period on the application until October 19, 2018, to allow more time for members of the public to submit their comments.

Dated at Rockville, Maryland, on September 7, 2018.
For the Nuclear Regulatory Commission.
Brian W. Smith,
Deputy Director, Division of Fuel Cycle Safety, Safeguards, and Environmental Review, Office of Nuclear Material Safety and Safeguards.

[FR Doc. 2018-19928 Filed 9-12-18; 8:45 am]

BILLING CODE 7590-01-P